DEPARTMENT OF STATE

[Public Notice 6019]

Announcement of Meetings of the International Telecommunication Advisory Committee

SUMMARY: This notice announces meetings of the International Telecommunication Advisory Committee (ITAC) to prepare advice on U.S. positions for the April 2008 meeting of the Organization of American States (OAS) Inter-American Telecommunication Commission (CITEL) Permanent Consultative Committee II (Radiocommunication including broadcasting) (PCC.II) and on various matters associated with the Asia-Pacific Economic Cooperation (APEC).

The ITAC will meet to prepare advice for the U.S. on positions for the April 2008 meeting of the OAS CITEL PCC.II on Tuesday February 5, 10 a.m.-noon EST in Room 6B516 at the Federal Communications Commission, 445 12th Street, SW., Washington DC. Meeting details and detailed agendas will be posted on the mailing list pcc.ii-citel@eblist.state.gov. People desiring to participate on this list may apply to the secretariat at minardje@state.gov.

The ITAC will meet to elicit private sector and industry input on the Asia-Pacific Economic Cooperation (APEC) Telecommunications Ministerial in April 2008 and on the APEC Telecommunications Working Group future work goals and planning. The meeting will be held on Thursday February 7, 2-4 p.m. EST hosted by Verizon Communications, 1300 Eye Street, Washington, DC. Meeting details and detailed agendas will be posted on the mailing list iccp-ps@eblist.state.gov. People desiring to participate on this list may apply to the secretariat at minardje@state.gov.

The meetings are open to the public.

Dated: January 9, 2008.
Doreen F. McGirr,
International Communications & Information Policy, Department of State.

[FR Doc. E8-727 Filed 1-15-08; 8:45 am]

BILLING CODE 4710-07-P